DEPARTMENT OF HOMELAND SECURITY

Federal Emergency Management Agency

44 CFR Part 67

[Docket ID FEMA-2014-0002]

Final Flood Elevation Determinations; Withdrawal

AGENCY: Federal Emergency Management Agency, DHS.

ACTION: Final rule; withdrawal.

SUMMARY: The Federal Emergency Management Agency (FEMA) is withdrawing its final rule concerning the flood elevation determinations for Colfax County, Nebraska, and Incorporated Areas.

DATE: Effective June 13, 2014.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On Friday, January 24, 2014, FEMA published a final rulemaking at 79 FR 4095, finalizing flood elevation determinations along one or more flooding sources in Colfax County, Nebraska, and Incorporated Areas. FEMA recently determined that certain administrative errors occurred which affected the statutory appeal period for eligible communities in Colfax County and rescinded the Letter of Final Determination issued on October 16, 2013. Therefore, FEMA is withdrawing the final rulemaking at the above-referenced publication. FEMA will provide additional due process for affected communities and resolve any appeals or comments received during the appeal period prior to finalizing the flood elevation determinations for Colfax County, Nebraska and Incorporated Areas.

(Catalog of Federal Domestic Assistance No. 97.022, “Flood Insurance.”)

Dated: May 9, 2014.
Roy E. Wright,
Deputy Associate Administrator for Mitigation, Department of Homeland Security, Federal Emergency Management Agency.

[FR Doc. 2014-13286 Filed 6-12-14; 8:45 am]

BILLING CODE 9110-12-P